DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before September 11, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on August 4, 2020.
Donald P. Burger,
Chief, General Approvals and Permits Branch.

Application No. | Applicant | Regulation(s) affected | Nature of the special permits thereof
SPECIAL PERMITS DATA—Granted
10922-M | Fiba Technologies, Inc | 173.302(a), 180.205, 180.207(d)(1), 172.302(c) | To modify the special permit to authorize an additional outside diameter tube for a reference standard and its associated range of cylinder diameters that can be retested by UE.
11215-M | Orbital Sciences Corporation | 172.300, 172.600, 172.400, 172.500, 173.62, 175.75 | To modify the special permit to authorize additional hazmat contained in a new launch vehicle.
14656-M | Purepak Technology Corporation | 173.158(f)(3) | To modify the special permit to authorize an additional marking option to the outside of the package.
14849-M | Call2recycle, Inc | 172.400, 172.102(c)(1), 172.200, 172.300, 173.159a(c)(2), 173.185(c)(1)(iii), 173.185(c)(1)(iv), 173.185(c)(1)(v), 173.185(c)(3), 172.303(a), 173.185(d) | To modify the special permit to authorize rail transportation, to allow batteries up to 300 Wh to be transported by vessel, and to clarify the lithium battery mark on the package.
20301-M | Tesla, Inc | 172.101(j), 173.185(a)(1), 173.185(b)(3)(i), 173.185(b)(3)(ii) | To modify the special permit to authorize a new larger size prototype lithium battery.
20576-M | Cylinder Testing Solutions LLC | 172.203(a), 172.301(c), 180.205 | To modify the special permit to authorize specific additional procedures for the testing of 3AL cylinders with labels under the clearcoat so they can continue to be tested using ultrasound, to add specific minimum wall specifications for testing 3AL cylinders and to update the update the authorized facilities under the SP.
20834-M | ECC Corrosion Inc | 107.503(b), 107.503(c), 173.241, 173.242, 173.243, 178.345-1(d), 178.345-1(f), 178.345-2, 178.345-3, 178.345-4, 178.345-7, 180.405, 180.413 | To modify the special permit to authorize a redesign of the cargo tanks, to clarify the tank capacity and to modify the safety factor.
20901-N | Springfield Terminal Railway Co Inc | 174.14 | To authorize the storage of liquid petroleum gas (LPG) on storage tracks in serving yards close to major LPG distribution facilities.
20907-M | Versum Materials, Inc | 171.23(a), 171.23(a)(3) | To modify the special permit to authorize shipment of up to 60 cylinders a month.
20962-N | Portable Electric, Ltd | 172.101(j), 173.185(b) | To authorize the transportation in commerce by cargo only aircraft of lithium-ion batteries that exceed the maximum weight allowed.
21022-N | Webasto Roof & Components Se | 172.101(j), 173.185(a) | To authorize the transportation in commerce of untested lithium ion batteries that exceed 35 kg by cargo-only aircraft.
21041-N | KLA Corporation | 173.212, 173.213 | To authorize the transportation in commerce of certain flammable solids in non-specification plywood boxes.
21051-N | Lab Vendor, LLC | 173.196(a), 173.196(b), 173.199(a), 173.199(d), 178.603, 178.609(d) | To authorize the transportation of certain chemicals and cryogenically preserved (refrigerated and deep frozen) infectious, biological substances packaged in special packaging in a specially designed, dedicated refrigerated truck by highway.
21070-N | National Air Cargo Group, Inc | 172.101(j), 172.204(c)(3), 173.27(b)(2), 173.27(b)(3), 175.30(a)(1) | To authorize the transportation in commerce by cargo only aircraft of Class 1 explosives which are forbidden or exceed quantities presently authorized.
21076-N | Arkema Inc | 173.22, 173.24, 173.24b(f) | To authorize the transportation of a UN T11 Isotank with a faulty pressure relief device filled with Ethyl Mercaptan to a repair facility.
21078-N | Saint Louis University | 173.199 | To authorize the transportation in commerce of 45 freezers containing Category B Infectious Substances.
21082-N | Department Of Resources Recycling And Recovery | 171.1 | To authorize the transportation in commerce of certain hazardous materials in support of the recovery and relief operations from and within the fire disaster areas in California under conditions that may not meet the Hazardous Materials Regulations (HMR).
SPECIAL PERMITS DATA—Denied
20974-N | PSC Custom LP | 172.101(i), 173.302 | To authorize the transportation in commerce of methane gas in MC 331 specification cargo tanks.
20990-N | PSC Custom LP | 172.101(i)(3) | To authorize the transportation in commerce of methane gas in nurse tanks.
21032-N | Luxfer Inc | 173.302a(a), 173.304a(a), 180.209 | To authorize the manufacture, marking, sale and use of a non-DOT specification fully-wrapped carbon fiber composite cylinder with a seamless aluminum liner, to contain oxygen and other gases at 5000 psi. The cylinder will be designed, manufactured and tested in accordance with ISO 11119-2 with two extra tests defined by PHMSA.
21054-N | Siemens Energy, Inc | 173.56(b) | To authorize the transportation in commerce of a Class 1 material under an alternate Class 1 designation.
SPECIAL PERMITS DATA—Withdrawn
20391-M | Hexagon Purus LLC | 173.301(f), 173.302(a) | To modify the special permit to authorize additional cylinders with a volume up to 3,000 liters.

[FR Doc. 2020-17601 Filed 8-11-20; 8:45 am]

BILLING CODE 4909-60-P